DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State Governors under Section 250 (b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request if filed in writting with the Director of DTAA not later than October 29, 2001.

Also, interested persons are invited to submit written comments regarding the subject matter of the petitions to the Director of DTAA at the address shown below not later than October 29, 2001.

Petitions filed with the Governors are available for inspection at the Office of the Director, DTAA, ETA, DOL, Room C-5311, 200 Constitution Avenue, NW. Washington, DC 20210.

Signed at Washington, D.C. this 2nd October, 2001.
Edward A. Tomchick,
Director, Division of Trade Adjustment Assistance.

Appendix
Subject firm | Location | Date received at Governor's Office | Petition No. | Articles produced
Belco Tool and Mfg. (Co.) | Meadville, PA | 09/04/2001 | NAFTA-5,271 | Spare mold and die parts.
AVX Corporation (Wkrs) | Myrthe Beach, SC | 09/04/2001 | NAFTA-5,272 | Capaciters.
Raltron Electronic (Wkrs) | Miami, FL | 08/31/2001 | NAFTA-5,273 | Electronic.
Toastmaster—Salton, Inc. (Co.) | Boonville, MO | 09/10/2001 | NAFTA-5,274 | Warehousing.
FMC Technologies (Wkrs) | Homer City, PA | 09/10/2001 | NAFTA-5,275 | Handling equipment.
Damy Industries | Athens, TN | 09/10/2001 | NAFTA-5,276 | Ladies robes and housecoats.
Zilog, Inc | Nampa, ID | 09/05/2001 | NAFTA-5,277 | Integrated circuits.
Unifirst Corporation | Cave City, AR | 09/06/2001 | NAFTA-5,278 | Uniforms.
Fasco Industries (Wkrs) | Ozark, MO | 08/09/2001 | NAFTA-5,279 | Shaded pole motors.
PPG Industries (Co.) | Shelby, NC | 09/07/2001 | NAFTA-5,280 | Fiberglass.
Haemer Wright Tool and Die (Co.) | Saegertown, PA | 09/10/2001 | NAFTA-5,281 | Plastic molds, spare parts.
Them's Fine Apparel (Co.) | Bethel Springs, TN | 09/06/2001 | NAFTA-5,282 | Hospital apparel.
WP Textiles Processing (UNITE) | Richmond, VA | 09/06/2001 | NAFTA-5,283 | Knits and wovens.
Hilton Corporate Casuals (Wkrs) | Thomasville, AL | 09/05/2001 | NAFTA-5,284 | Jackets, and pants and shorts.
Sykes Enterprise (Co.) | Irvine, CA | 08/16/2001 | NAFTA-5,285 |
i2 Technologies (Wkrs) | Yorba Linda, CA | 08/02/2001 | NAFTA-5,286 | Data library.
Ubi Soft Entertainment (Wkrs) | Novatc, CA | 08/24/2001 | NAFTA-5,287 | Computer entertainment software.
Currton Manufacturing (Wkrs) | Travelers Rest, SC | 09/06/2001 | NAFTA-5,288 | Curtains.
GHSP—GH South (PACE) | Grand Haven, MI | 08/06/2001 | NAFTA-5,289 | Plastic injection molding.
PDSP Railcar Services | Port Huron, MI | 09/06/2001 | NAFTA-5,290 | Railroad cars.
Kraft Foods (Wkrs) | Allentown, PA | 09/07/2001 | NAFTA-5,291 | Barbecue sauces.
Rotorex (Wkrs) | Wallersville, MD | 09/06/2001 | NAFTA-5,292 | Air conditioners.
Acme Pattern Works (IAMAW) | Chicago Heights, IL | 09/04/2001 | NAFTA-5,293 | Pattern tooling.
ARMS Industrial (IAMAW) | Dalton, IL | 08/20/2001 | NAFTA-5,294 | Pattern tooling.
Genlyte Thomas Group (IBEW) | Hopkinsville, KY | 09/07/2001 | NAFTA-5,295 | Can lighting.
Parker Hannifin (Co.) | Lincolnshue, IL | 09/07/2001 | NAFTA-5,296 | Testing distribution.
Wackenhut Security (Co.) | Kennewick, WA | 09/04/2001 | NAFTA-5,297 | Fertilizer.
Craftsmen Fabric—Phoenix Mills (Co.) | Concord, NC | 09/07/2001 | NAFTA-5,298 | Textile dyeing.
Meadowbrook Company (Co.) | Spelter, WV | 09/07/2001 | NAFTA-5,299 | Zinc dust.
Forsheda Engineered Seals (Co.) | Vandalia, IL | 09/04/2001 | NAFTA-5,300 | Automotive gaskets.
BMI (Boldt Metronics International) (wkrs) | Schaumburg, IL | 09/04/2001 | NAFTA-5,301 | Metal metronics component.
Tyco Electronics (Co.) | Romeoville, TN | 09/04/2001 | NAFTA-5,302 | Battery packs.
M and S Manufacturing (Wkrs) | Morenci, MI | 08/28/2001 | NAFTA-5,303 | Automotive parts.
Eagle Veneer (Wkrs) | Harrisburg, OR | 09/04/2001 | NAFTA-5,304 | Plywood.
Flomatic International (Wkrs) | Clackamas, OR | 09/05/2001 | NAFTA-5,305 | Beverage valves.
Alcatel Submarine Networks (Wkrs) | Portland, OR | 09/04/2001 | NAFTA-5,306 | Fiber optic undersea cable.
HH Smith (Co.) | Meadville, PA | 09/05/2001 | NAFTA-5,307 | Electronic connectors.
Carolina Mills (Co.) | Gastonia, NC | 09/04/2001 | NAFTA-5,308 | Textile yarn.
Hayward Industrial (Co.) | Kings Mountain, NC | 09/04/2001 | NAFTA-5,309 | Plastic products.
Laclede Steel (Wkrs) | Vandalia, IL | 09/05/2001 | NAFTA-5,310 | Pipes.
General Electric Capital IT Solutions (Co.) | Erlanger, KY | 08/22/2001 | NAFTA-5,311 | Technical support.
Rockwell Automative (UE) | Milwaukee, Wi | 09/10/2001 | NAFTA-5,312 | Push buttons.
Screen Creations—Bolivar Tee (Wkrs) | Bolivar, MO | 09/11/2001 | NAFTA-5,313 | T-shirts.
Daniel Measurement and Control (Co.) | Statesboro, GA | 09/11/2001 | NAFTA-5,314 | Turbine and valve product lines.
Mail Well Envelope (GCU) | Portland, OR | 09/10/2001 | NAFTA-5,315 | Mailing envelops.
GFC Fabricating (Wkrs) | Berwick, PA | 09/06/2001 | NAFTA-5,316 | Fabricate elastic material.
Tyco Electronics (Wkrs) | Carlisle, PA | 09/10/2001 | NAFTA-5,317 | Electroplated connector components.
United Tool and Die (Co.) | Meadville, PA | 08/28/2001 | NAFTA-5,318 | Steel mold.
Motorola (Co.) | Boynton Beach, FL | 09/13/2001 | NAFTA-5,319 | Cellular products.
Motorola (Wkrs) | Schaumburg, IL | 09/17/2001 | NAFTA-5,320 | PCB assembly.
Satilla Manufacturing (Wkrs) | Blackshear, GA | 09/18/2001 | NAFTA-5,321 | Outerwear jackets.
Volvo Construction Equipment (Co.) | Skyland, NC | 09/17/2001 | NAFTA-5,322 | Heavy construction Equipment.
Aramda (Co.) | Leland, NC | 09/17/2001 | NAFTA-5,323 | Zinc die cast parts.
Honeywell (Co.) | Clearfield, UT | 09/10/2001 | NAFTA-5,324 | Air filter.
HPM Corporation (IAMAW) | Mt. Gilead, OH | 09/18/2001 | NAFTA-5,325 | Manifolds.
FB Johnston Group (Co.) | Hillsborough, NC | 09/14/2001 | NAFTA-5,326 | Labels.
Parker Hannifin (Wkrs) | Otsego, MI | 09/14/2001 | NAFTA-5,327 | Manfold.
Steward Connector Systems—Insilco (Wkrs) | Glen Rock, PA | 09/14/2001 | NAFTA-5,328 | Modular components.
Emerson Process Management (Wkrs) | McKinney, TX | 09/13/201 | NAFTA-5,329 | Regulators for gas tanbo.
Micro Tool (Co.) | Meadville, PA | 09/13/2001 | NAFTA-5,330 | Plastic injection molds.
Rayovac (Wkrs) | Portage, WI | 09/12/2001 | NAFTA-5,331 | Batteries.
Brunswick Corp.—Mercury Marine (IAMAW) | Fond du Lac, WI | 09/12/2001 | NAFTA-5,332 | Outboard engines.
Tyco international (UAW) | Wrentham, MA | 09/24/2001 | NAFTA-5,333 | Fossil power valves.
Texfi Industries (Co.) | Hawriver, NC | 09/12/2001 | NAFTA-5,334 | Dyed and finishing knit.
Arris International (Wkrs) | Tiaton Falls, NJ | 09/10/2001 | NAFTA-5,335 | Telephone equipment.
Greenway Manufacturing (Wkrs) | Spartanburg, SC | 09/17/2001 | NAFTA-5,336 | Sleepwear.
Quality Apparel (Co.) | Dillon, SC | 09/17/2001 | NAFTA-5,337 | Polyester pants.
Continental Accessoreis—Quadra Mfg. (Co.) | White Pigeon, MI | 09/14/2001 | NAFTA-5,338 | Running boards.
Steele Apparel (Co.) | Kilmichael, MS | 09/07/2001 | NAFTA-5,339 | Career apparel.
Qwest Wireless (Wkrs) | Denver, CO | 09/24/2001 | NAFTA-5,340 | Call center.
Miller Bag (Co.) | Freeman, SD | 09/24/2001 | NAFTA-5,341 | Grass catchers.
Curtain and Drapery (Wkrs) | Gatonia, NC | 09/24/2001 | NAFTA-5,342 | Window treatment.
Corning Cable Systems (Wkrs) | Hickory, NC | 09/24/2001 | NAFTA-5,343 | Cable TV assemblies.
Drake Extrusion (Wkrs) | Spartanburg, SC | 09/21/2001 | NAFTA-5,344 | Fibers and clothes.
Pinnacle Logistics (Co.) | El Paso, TX | 09/13/2001 | NAFTA-5,345 | Warehouse.
Contract Apparel (Wkrs) | El Paso, TX | 08/22/2001 | NAFTA-5,346 | Ladies clothes.
Poly One (Co.) | Corna, CA | 09/12/2001 | NAFTA-5,347 | Plastics.
Lexington Lamp (Wkrs) | Lexington, KY | 09/20/2001 | NAFTA-5348 | Autoweld and rewash.
Brooks Automation (Co.) | Colorado Springs, Co | 09/20/2001 | NAFTA-5,349 | Junction boxes.
JVC Digital Image Technology Center (Wkrs) | Carlsbad, CA | 09/20/2001 | NAFTA-5,350 | High technology projector.
Davis Wire (IBT) | Hayward, CA | 09/14/2001 | NAFTA-5,351 | Chain link fencing.
Visteon System LLC (IUE) | Connersville, IN | 09/19/2001 | NAFTA-5,352 | FS-10 compressors.
Phoenix Apparel Resources (Co.) | Sanford, NC | 09/20/2001 | NAFTA-5,353 | Sportswear.
A and E Products—Tyco (Wkrs) | Forest City, NC | 09/20/2001 | NAFTA-5,354 | Plastic hangers.
Fishman and Tobin (Wkrs) | Medley, FL | 09/19/2001 | NAFTA-5,355 | Apparel.
Eaton Corporation (UAW) | Marshall, MI | 09/19/2001 | NAFTA-5,356 | Controls.
Linq Industiral Fabrics (Co.) | Opalocka, FL | 09/18/2001 | NAFTA-5,357 | Bulk containers.
Do Group Holding (Co.) | Marked Tree, AR | 09/21/2001 | NAFTA-5,358 | Office partitions.
Crown Pacific Limited Partnership (Wkrs) | Coeur d'Alene, ID | 09/18/2001 | NAFTA-5,359 | Lumber.
Con Lime (Wkrs) | Bellefonte, PA | 09/25/2001 | NAFTA-5,360 | Lime.
Delta Woodside Industries (Co.) | Fountain Inn, SC | 09/25/2001 | NAFTA-5,361 | Boton weight cotton twill.
Key Plastics (Wkrs) | Felton, PA | 09/25/2001 | NAFTA-5,362 | Automotive plastic parts.
Advanced Wood Resources—Jeld Wen (Wkrs) | Brownsville, OR | 09/27/2001 | NAFTA-5,363 | Panels.
Continental Fabics (Co.) | Angier, NC | 09/27/2001 | NAFTA-5,364 | Textiles fabric.
C. L. Fashion Express (Wkrs) | Panorama City, CA | 09/24/2001 | NAFTA-5,365 | Pants, blouses and shirts.
Acu Crimp (Co.) | El Paso, TX | 09/27/2001 | NAFTA-5,366 | Tooling.
Eagle Knits of Stanfield (Co.) | Norwood, NC | 09/26/2001 | NAFTA-5,367 | Knitted fabrics.
Burkart Form (IAMAW) | Cairo, IL | 09/27/2001 | NAFTA-5,368 | Form products: carpet underlay etc.
Garan Manufacturing (Wkrs) | Ozark, AR | 09/27/2001 | NAFTA-5,369 | Knit shirts.
New World Pasta (BCTW) | Lebanon, PA | 09/27/2001 | NAFTA-5,370 | Pasta products.
Coraza (Wkrs) | San Jose, CA | 09/24/2001 | NAFTA-5,371 | Sheet metal products.
International Paper (Wkrs) | Washington, GA | 09/26/2001 | NAFTA-5,372 | Paper boxes.
Northrop Grumman (Wkrs) | Watertown, CT | 09/26/2001 | NAFTA-5,373 | Electronic connectors.
Axiohm Transaction Solutions (Wkrs) | Cypress, CA | 09/26/2001 | NAFTA-5,374 | Card readers.
Shasta Paper (PACE) | Anderson, CA | 09/24/2001 | NAFTA-5,375 | Uncoated and coated specialty paper.
Temple Inland Forest Products (Co.) | Shippenville, PA | 09/25/2001 | NAFTA-5,376 | Wood.
Fositso Microelectronics (Wkrs.) | Gresham, OR | 09/25/2001 | NAFTA-5,377 | Computer chips.
Burle Industries (IBEW) | Lancaster, PA | 09/28/2001 | NAFTA-5,378 | Electron tubes.
Diamond Tool and Die (Co.) | Townville, PA | 09/25/2001 | NAFTA-5,379 | Zippers.

[FR Doc. 01-26040 Filed 10-16-01; 8:45 am]

BILLING CODE 4510-30-M